DEPARTMENT OF DEFENSE

Office of the Secretary

32 CFR Part 310

[DoD Reg. 5400.11.R]

Privacy Act; Implementation

AGENCY: Office of the Secretary, DoD.

ACTION: Final rule, with comments.

SUMMARY: As directed by Secretary of Defense memorandum dated May 25, 2000, the Department of Defense Privacy Program is being amended to include specific language for providing periodic Privacy Act training for DoD personnel who may be expected to deal with the news media or the public.

DATES: This rule is effective May 25, 2000. Comments must be received by October 6, 2000.

ADDRESSES: Defense Privacy Office, 1941 Jefferson Davis Highway, Suite 920, Arlington, VA 22202-4502.

FOR FURTHER INFORMATION CONTACT: Mr. Vahan Moushegian, Jr., at (703) 607-2943.

SUPPLEMENTARY INFORMATION:

Executive Order 12866. It has been determined that this Privacy Act rule for the Department of Defense does not constitute ‘significant regulatory action’. Analysis of the rule indicates that it does not have an annual effect on the economy of $100 million or more; does not create a serious inconsistency or otherwise interfere with an action taken or planned by another agency; does not materially alter the budgetary impact of entitlements, grants, user fees, or loan programs or the rights and obligations of recipients thereof; does not raise novel legal or policy issues arising out of legal mandates, the President's priorities, or the principles set forth in Executive Order 12866 (1993).

Regulatory Flexibility Act. It has been determined that this Privacy Act rule for the Department of Defense does not have significant economic impact on a substantial number of small entities because it is concerned only with the administration of Privacy Act systems of records within the Department of Defense.

Paperwork Reduction Act. It has been determined that this Privacy Act rule for the Department of Defense imposes no information requirements beyond the Department of Defense and that the information collected within the Department of Defense is necessary and consistent with 5 U.S.C. 552a, known as the Privacy Act of 1974.

List of Subjects in 32 CFR Part 310

Privacy.

1. The authority citation for 32 CFR part 310 continues to read as follows:

Authority: Pub. L. 93?579, 88 Stat. 1896 (5 U.S.C. 552a).

2. § 310.72, paragraph (a)(2) is revised to read as follows:

§ 310.72 DoD training programs.

(a) * * *

(2) Specialized training. Training that provides information as to the application of specific provisions of this part to specialized areas of job performance. Personnel of particular concern include, but are not limited to personnel specialists, finance officers, DoD personnel who may be expected to deal with the news media or the public, special investigators, paperwork managers, and other specialists (reports, forms, records, and related functions), computer systems development personnel, computer systems operations personnel, statisticians dealing with personal data and program evaluations, and anyone responsible for implementing or carrying out functions under this part. Specialized training should be provided on a periodic basis.

* * * * *

Dated: July 31, 2000.
L.M. Bynum,
Alternate OSD Federal Register Liaison Officer, Department of Defense

[FR Doc. 00-19861 Filed 8-4-00; 8:45 am]

BILLING CODE 5001-10-F